DEPARTMENT OF THE INTERIOR

National Park Service

Availability of the Great Egg Harbor National Scenic and Recreational River Final Comprehensive Management Plan and Environmental Impact Statement

AGENCY: National Park Service, Interior.

ACTION: Notice of Availability of the Great Egg Harbor National Scenic and Recreational River Final Comprehensive Management Plan and Environmental Impact Statement.

SUMMARY: The National Park Service has finalized the Comprehensive Management Plan and Environmental Impact Statement for the management, protection, and use of the Great Egg Harbor National Scenic and Recreational River in New Jersey. Comments will be accepted for 30 days from the date of this notice. Please be advised that, if requested, the National Park Service is required to supply the names and addresses of individuals providing comments. For more information about this document, contact Mary Vavra, National Park Service Manager by letter or telephone.

FOR FURTHER INFORMATION CONTACT: Mary Vavra, Program Manager, National Park Service, Philadelphia Support Office, 200 Chestnut Street, 3rd Floor, Philadelphia, PA 19106, (215) 597-9175.

Dated: July 6, 2000.
Marie Rust,
Regional Director, Northeast Region, National Park Service.

[FR Doc. 00-18033 Filed 7-14-00; 8:45 am]

BILLING CODE 4310-70-M